DEPARTMENT OF TRANSPORTATION

Federal Aviation Administration

14 CFR Part 39

[Docket No. 2001-CE-34-AD; Amendment 39-12596; AD 2002-01-05]

RIN 2120-AA64

Airworthiness Directives; British Aerospace Model HP.137 Jetstream Mk.1, Jetstream Series 200, Jetstream Series 3101, and Jetstream Model 3201 Airplanes

AGENCY: Federal Aviation Administration, DOT.

ACTION: Final rule.

SUMMARY: This amendment adopts a new airworthiness directive (AD) that applies to all British Aerospace Model HP.137 Jetstream Mk.1, Jetstream Series 200, Jetstream Series 3101, and Jetstream Model 3201 airplanes that are equipped with certain main landing gear (MLG) radius rods. This AD requires you to inspect the MLG radius rod cylinders for the required conductivity or hardness standard. This AD also requires you to replace any MLG radius rod cylinder that does not meet this standard. This AD is the result of mandatory continuing airworthiness information (MCAI) issued by the airworthiness authority for the United Kingdom. The actions specified by this AD are intended to prevent failure of the MLG due to incorrectly heat treated MLG radius rod cylinders. Such failure during takeoff, landing, or taxi operations, could lead to loss of airplane control.

DATES: This AD becomes effective on February 11, 2002.

The Director of the Federal Register approved the incorporation by reference of certain publications listed in the regulations as of February 11, 2002.

ADDRESSES: You may get the service information referenced in this AD from British Aerospace Regional Aircraft, Prestwick International Airport, Ayrshire, KA9 2RW, Scotland; telephone: (01292) 479888; facsimile: (01292) 479703. You may view this information at the Federal Aviation Administration (FAA), Central Region, Office of the Regional Counsel, Attention: Rules Docket No. 2001-CE-34-AD, 901 Locust, Room 506, Kansas City, Missouri 64106; or at the Office of the Federal Register, 800 North Capitol Street, NW, suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What Events Have Caused This AD?

The Civil Aviation Authority (CAA), which is the airworthiness authority for the United Kingdom, recently notified FAA that an unsafe condition may exist on all British Aerospace Model HP.137 Jetstream Mk.1, Jetstream Series 200, Jetstream Series 3101, and Jetstream Model 3201 airplanes equipped with certain main landing gear (MLG) radius rods.

The CAA reports, that the manufacturer of the MLG radius rods, APPH Ltd., incorrectly heat treated a batch of radius rod cylinders, part number (P/N) 184811. Incorrect heat treatment of the MLG radius rod cylinder causes the part to be below required design strength. This results in reduced structural integrity of the part.

What Is the Potential Impact if FAA Took No Action?

This condition, if not corrected, could result in failure of the MLG. Such failure during takeoff, landing, or taxi operations could lead to loss of airplane control.

Has FAA Taken Any Action to This Point?

We issued a proposal to amend part 39 of the Federal Aviation Regulations (14 CFR part 39) to include an AD that would apply to all British Aerospace Model HP.137 Jetstream Mk.1, Jetstream Series 200, Jetstream Series 3101, and Jetstream Model 3201 airplanes that are equipped with certain MLG radius rods. This proposal was published in the Federal Register as a notice of proposed rulemaking (NPRM) on October 5, 2001 (66 FR 50894). The NPRM proposed to require you to inspect the MLG radius rods for the required conductivity or hardness standard, and replace any rod that does not meet this standard.

Was the Public Invited To Comment?

The FAA encouraged interested persons to participate in the making of this amendment. We did not receive any comments on the proposed rule or on our determination of the cost to the public.

FAA's Determination

What Is FAA's Final Determination on This Issue?

After careful review of all available information related to the subject presented above, we have determined that air safety and the public interest require the adoption of the rule as proposed except for minor editorial corrections. We have determined that these minor corrections:

—Provide the intent that was proposed in the NPRM for correcting the unsafe condition; and

—do not add any additional burden upon the public than was already proposed in the NPRM.

Cost Impact

How Many Airplanes Does This AD Impact?

We estimate that this AD affects 250 airplanes in the U.S. registry.

What Is the Cost Impact of This AD on Owners/Operators of the Affected Airplanes?

We estimate the following costs to accomplish the inspection using the eddy current conductivity test:

Labor cost | Parts cost | Total cost per airplane | Total cost on U.S. operators
1 workhour per radius rod (2 per airplane) × $60 = $120 | No parts required | $120 | $30,000

We estimate the following costs to accomplish the inspection using the Rockwell hardness test:

Labor cost | Parts cost | Total cost per airplane | Total cost on U.S. operators
5 workhours per radius rod (2 per airplane) × $60 = $600 | No parts required | $600 | $150,000

We estimate the following costs to accomplish any necessary replacements that will be required based on the results of the inspection. We have no way of determining the number of airplanes that may need such replacement:

Labor cost for replacement of each main landing gear radius rod | Parts cost | Total cost per airplane
5 workhours × $60 = $300 | $9,000 | $9,300

Are There Differences Between This AD and the Service Information?

British Aerospace Alert Service Bulletin 32-A-JA010740, Revision 2, Issued: July 23, 2001, specifies reporting the results of the inspections to British Aerospace Regional Aircraft. This AD does not require this action. The FAA recommends that each owner/operator submit this information. We are including a note in this AD to reflect this. British Aerospace and the British CAA will use this information to determine whether further action is necessary.

The FAA will evaluate the information from the British CAA and may initiate further rulemaking action.

Compliance Time of This AD

What Is the Compliance Time of This AD?

The compliance time of this AD is “within the next 30 calendar days after the effective date of this AD”.

Why is the Compliance Time Presented in Calendar Time Instead of Hours Time-in-Service (TIS)?

Failure of the MLG is an unsafe condition; however, it is not a direct result of airplane operation. The chance of this situation occurring is the same for an airplane with 10 hours TIS as it is for an airplane with 500 hours TIS. A calendar time for compliance will ensure that the unsafe condition is addressed on all airplanes in a reasonable time period.

Regulatory Impact

Does This AD Impact Various Entities?

The regulations adopted herein will not have a substantial direct effect on the States, on the relationship between the national government and the States, or on the distribution of power and responsibilities among the various levels of government. Therefore, it is determined that this final rule does not have federalism implications under Executive Order 13132.

Does This AD Involve a Significant Rule or Regulatory Action?

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2002-01-05 British Aerospace: Amendment 39-12596; Docket No. 2001-CE-34-AD.

(a) What airplanes are affected by this AD? This AD affects Model HP.137 Jetstream Mk.1, Jetstream Series 200, Jetstream Series 3101, and Jetstream Model 3201 airplanes, all serial numbers, that are:

(1) certificated in any category; and

(2) equipped with a main landing gear (MLG) radius rod, APPH Ltd. part number 1847-A through 1847-L, 1848-A through 1848-F, or 1862-A through 1862-L.

(b) Who must comply with this AD? Anyone who wishes to operate any of the airplanes identified in paragraph (a) of this AD must comply with this AD.

(c) What problem does this AD address? The actions specified by this AD are intended to prevent failure of the MLG due to incorrectly heat treated MLG radius rod cylinders. Such failure during takeoff, landing, or taxi operations could lead to loss of airplane control.

(d) What actions must I accomplish to address this problem? To address this problem, you must accomplish the following:

Actions | Compliance | Procedures
(1) Inspect, using an eddy current conductivity tester, or the Rockwell hardness test, the left and right main landing gear (MLG) radius rods, part numbers (P/N) 1847-A through 1847-L, 1848-A through 1848-F, and 1862-A through 1862-L, for correct conductivity or hardness standard specified in the referenced service information | Within the next 30 calendar days after February 11, 2002 (the effective date of this AD) | In accordance with the Accomplishment Instructions section of British Aerospace Alert Service Bulletin 32-A-JA010740, Revision 2, Issued: July 23, 2001, APPH Ltd. Service Bulletin 1847-32-08, dated July 2001, APPH Ltd. Service Bulletin 1862-32-08, dated July 2001, and the applicable maintenance manual.
(2) If the results of the inspection are greater than 46% International Aluminum & Copper Standards (IACS) using the eddy current conductivity test, or less than 79 using the Rockwell hardness test, replace the MLG radius rod with an FAA-approved MLG radius rod that meets the conductivity or hardness standard specified in the referenced service information | Within the next 90 calendar days after the inspection required in paragraph (d)(1) of this AD | In accordance with the Accomplishment Instructions section of British Aerospace Alert Service Bulletin 32-A-JA010740, Revision 2, Issued: July 23, 2001, APPH Ltd. Service Bulletin 1847-32-08, dated July 2001, APPH Ltd. Service Bulletin 1862-32-08, dated July 2001, and the applicable maintenance manual.
(3) If the results of the inspection are equal to or greater than 41.5% IACS but less than or equal to 46% IACS using the eddy current conductivity test, or equal to or greater than 79 but less than or equal to 87 using the Rockwell hardness test, replace the MLG radius rod with an FAA-approved MLG radius rod that meets the conductivity or hardness requirements specified in the referenced service information | Within the next 180 calendar days after the inspection required in paragraph (d)(1) of this AD | In accordance with the Accomplishment Instructions section of British Aerospace Alert Service Bulletin 32-A-JA010740, Revision 2, Issued: July 23, 2001, APPH Ltd. Service Bulletin 1847-32-08, dated July 2001, APPH Ltd. Service Bulletin 1862-32-08, dated July 2001, and the applicable maintenance manual.
(4) If the results of the inspection are greater than 36.5% IACS and less than 41.5% IACS using the eddy current conductivity test, or greater than 87 and less than 90 using the Rockwell hardness test, no replacement of the MLG radius rod is required | Not applicable | In accordance with the Accomplishment Instructions section of British Aerospace Alert Service Bulletin 32-A-JA010740, Revision 2, Issued: July 23, 2001, APPH Ltd. Service Bulletin 1847-32-08, dated July 2001, APPH Ltd. Service Bulletin 1862-32-08, dated July 2001.
(5) Do not install, on any affected airplane, a P/N 1847-A through 1847-L, 1848-A through 1848-F, or 1862-A through 1862-L MLG radius rod, unless it has been inspected and is found to meet the conductivity or hardness standard specified in the referenced service information | As of February 11, 2002 (the effective date of this AD) | In accordance with British Aerospace Alert Service Bulletin 32-A-JA010740, Revision 2, Issued: July 23, 2001.

Note 1: The compliance time of this AD differs from that specified in British Aerospace Alert Service Bulletin 32-A-JA-010740, Revision 2, Issued July 23, 2001. This AD takes precedence over any other information.

Note 2: British Aerospace Alert Service Bulletin 32-JA010740, Revision 2, Issued: July 23, 2001, specifies reporting the results of the inspections to British Aerospace Regional Aircraft. The FAA highly recommends that each owner/operator submit this information. British Aerospace and the British Civil Airworthiness Authority (CAA) will use this information to determine whether further action is necessary. The FAA will evaluate the information from the British CAA and may initiate further rulemaking action.

(e) Can I comply with this AD in any other way? You may use an alternative method of compliance or adjust the compliance time if:

(1) Your alternative method of compliance provides an equivalent level of safety; and

(2) The Manager, Small Airplane Directorate, approves your alternative. Submit your request through an FAA Principal Maintenance Inspector, who may add comments and then send it to the Manager, Small Airplane Directorate.

Note 3: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. The request should include an assessment of the effect of the modification, alteration, or repair on the unsafe condition addressed by this AD; and, if you have not eliminated the unsafe condition, specific actions you propose to address it.

(f) Where can I get information about any already-approved alternative methods of compliance? Contact Doug Rudolph, Aerospace Engineer, FAA, Small Airplane Directorate, 901 Locust, Room 301, Kansas City, Missouri 64106; telephone: (816) 329-4059; facsimile: (816) 329-4090.

(g) What if I need to fly the airplane to another location to comply with this AD? The FAA can issue a special flight permit under sections 21.197 and 21.199 of the Federal Aviation Regulations (14 CFR 21.197 and 21.199) to operate your airplane to a location where you can accomplish the requirements of this AD.

(h) Are any service bulletins incorporated into this AD by reference? Actions required by this AD must be done in accordance with British Aerospace Alert Service Bulletin 32-A-JA010740, Revision 2, Issued: July 23, 2001, APPH Ltd. Service Bulletin 1847-32-08, dated July 2001, and APPH Ltd. Service Bulletin 1862-32-08, dated July 2001. The Director of the Federal Register approved this incorporation by reference under 5 U.S.C. 552(a) and 1 CFR part 51. You can get copies from British Aerospace Regional Aircraft, Prestwick International Airport, Ayrshire, KA9 2RW, Scotland. You can look at copies at the FAA, Central Region, Office of the Regional Counsel, 901 Locust, Room 506, Kansas City, Missouri, or at the Office of the Federal Register, 800 North Capitol Street, NW, suite 700, Washington, DC.

Note 4: The subject of this AD is addressed in British AD Number 005-07-2001, not dated.

(i) When does this amendment become effective? This amendment becomes effective on February 11, 2002.

Issued in Kansas City, Missouri, on January 4, 2002.
Dorenda D. Baker,
Acting Manager, Small Airplane Directorate, Aircraft Certification Service.

[FR Doc. 02-797 Filed 1-16-02; 8:45 am]

BILLING CODE 4910-13-P